ENVIRONMENTAL PROTECTION AGENCY

[FRL-7800-8]

Notice of Proposed Administrative Consent Agreement and Final Order Pursuant to Section 309(g)(4) of the Clean Water Act: In the Matter of Deer Lodge Park L.L.C.

AGENCY: Environmental Protection Agency.

ACTION: Notice; request for public comment.

SUMMARY: In accordance with section 309(g)(4)(A) of the Clean Water Act, (“CWA”), 33 U.S.C. 1319(g)(4)(A), notice is hereby given of a proposed Consent Agreement and Final Order (“CA/FO”), which resolves penalties for alleged violations of sections 301(a) of the CWA, 33 U.S.C. 1311(a). The respondent to the CA/FO is Deer Lodge Park L.L.C., a Nevada corporation (“Respondent”). Through the proposed CA/FO, Respondent will pay $3,000 as a penalty for alleged violations involving its failure to obtain coverage under either a CWA National Pollutant Discharge Elimination System (NPDES) individual permit, or the NPDES General Permit #NVR10000I for Storm Water Discharges From Construction Activities for Indian Country within the State of Nevada (the “NPDES Construction General Permit”), prior to engaging in construction activity associated with development of the Deer Lodge Park residential subdivision located on individual Indian allotment land in Douglas County, Nevada.

DATES: For 30 days following the date of publication of this notice, the Agency will receive written comments relating to the proposed CA/FO.

ADDRESSES: Requests for copies of the proposed CA/FO should be addressed to: Richard Campbell, Attorney Advisor, U.S. Environmental Protection Agency, Region IX, 75 Hawthorne Street, Mailcode: ORC-2, San Francisco, CA 94105.

Comments regarding the proposed CA/FO should be addressed to: Danielle Carr, Regional Hearing Clerk, U.S. Environmental Protection Agency, Region IX, 75 Hawthorne Street, San Francisco, CA 94105.

Comments should reference the following information:

Case Name: In the Matter of Deer Lodge Park L.L.C.

Docket Number: CWA-9-2004-0002.

FOR FURTHER INFORMATION CONTACT: Richard Campbell at the above address or by telephone at (415) 972-3870, or by e-mail at campbell.rich@epa.gov.

SUPPLEMENTARY INFORMATION:

I. Background

Respondent Deer Lodge Park L.L.C. is an “operator”, as that term is defined at 40 CFR Part 122, in control of site specifications for the Deer Lodge Park residential subdivision. Construction activities associated with development of the Deer Lodge Park residential subdivision were unpermitted under either an individual NPDES permit or a NPDES Construction General Permit for six months in 2003. During this period, construction activity at the Deer Lodge Park site involved grading of roads, installation of a water tank, and installation of a well site. Storm water from the Deer Lodge Park construction site drains to a tributary of the East Fork Carson River. Pursuant to the proposed CA/FO, Respondent has consented to the assessment of a $3,000 penalty in this matter, and has certified that it will obtain coverage under a NPDES permit for construction activities at Deer Lodge Park.

II. General Procedural Information

Any person who comments on the proposed CA/FO shall be given notice of any hearing held and a reasonable opportunity to be heard and to present evidence. If no hearing is held regarding comments received, any person commenting on this proposed CA/FO may, within 30 days after the issuance of the final order, petition the Agency to set aside the CA/FO, as provided by section 309(g)(4)(C) of the CWA, 33 U.S.C. 1319(g)(4)(C). Procedures by which the public may submit written comments or participate in the proceedings are described in the Consolidated Rules of Practice Governing the Administrative Assessment of Civil Penalties, Issuance of Compliance or Corrective Action Orders, and the Revocation, Termination or Suspension of Permits, 40 CFR Part 22.

Dated: July 28, 2004.
Alexis Strauss,
Director, Water Division, Region IX.

[FR Doc. 04-18462 Filed 8-11-04; 8:45 am]

BILLING CODE 6560-50-P